ENVIRONMENTAL PROTECTION AGENCY

[FRL-7090-8]

EPA Science Advisory Board; Notification of Public Advisory Committee Meeting

Pursuant to the Federal Advisory Committee Act, Public Law 92-463, notice is hereby given that the Environmental Economics Advisory Committee (EEAC) of the US EPA Science Advisory Board (SAB), will meet on Friday, November 30, 2001 in the Rachel Carson Great Hall of the EPA Ariel Rios Building, 1200 Pennsylvania Avenue, NW., Washington, DC 20005. The meeting will begin at 8:30 a.m. and adjourn no later than 3:00 p.m. Eastern Time. The meeting is open to the public, however, seating is limited and available on a first come basis.

Purpose of the Meeting—The purpose of the meeting will be to: (a) Receive a status briefing on EPA's continuing efforts to enhance its practices for estimating the benefits of environmental actions that reduce mortality risks; (b) to engage in a Consultation with EPA representatives on possible opportunities for using incentives in the area of water and other areas of environmental pollution control; and (c) to engage in a Consultation with EPA representatives on the approach they wish to implement to develop their economic research strategy.

Background—(a) Value of Statistical Life (VSL) as a Measure of Benefits From Environmental Actions—The EEAC, and other Science Advisory Board Committees, have held a series of interactions with EPA representatives over the past few years on ways to estimate the benefits that are predicted to come from environmental actions. Examples of such interactions include: (a) The review of EPA's guidelines for economic analysis (see 63 FR 150:41820; 64 FR 56:14232; 64 FR 205:57452); (b) the review of EPA's white paper on Valuing Fatal Cancer Risk Reductions (see 65 FR 24:5637); (c) the SAB review of the benefits and costs of arsenic control in drinking water (see 66 FR 74:19770; 66 FR 127:34924) and (d) the SAB reviews of the benefits and costs of the Clean Air Act (e.g., see SAB reports EPA-SAB-COUNCIL-LTR-97-001, EPA-SAB-COUNCIL-ADV-00-001, EPA-SAB-COUNCIL-ADV-01-004—please see the SAB website www.epa.gov/sab for copies of these reports). The EPA National Center for Environmental Economics (NCEE) and other EPA offices now intend to present a draft plan to the EEAC that outlines EPA's efforts that will help EPA reach a resolution on best practices for a more complete and reliable accounting of the benefits of mortality risk reductions.

The Agency now uses a central estimate for valuation of reduced mortality risks, and makes adjustments to reflect the impact of factors such as identifiable latency periods and income growth over time. There are recognized limitations to these estimates, and these limitations provide the focus for an active research agenda for economists at EPA and outside the Agency. NCEE and other EPA offices conduct a variety of activities related to valuation of reduced mortality risks. These activities include: (a) The development of a review and assessment of the empirical literature that serves as a basis for EPA's value of statistical life (VSL) estimates, (b) development of more complete and reliable benefit transfer values for an environmental context, and (c) identification of directions for policy-relevant research.

EPA will outline its activities for collecting and disseminating new information as well as conducting and funding additional research designed to fill research needs. The Committee will consider how it might continue to interact with EPA as the Agency moves forward with this effort.

(b) Economic Incentives Consultation—The Committee will engage in a Consultation with EPA representatives on the Agency's consideration of opportunities for application of innovative and incentives-based approaches for environmental and health protection. EPA desires feedback from individual members of the Committee on criteria that might be used to select candidate areas for considering the applicability of such methods and for feedback on what topical areas might be considered as part of the agency's agenda for further development.

Over the last 20 years, and particularly during the past decade, economic incentives have been increasingly used to control pollution and improve environmental and health protection at the federal, state and local levels. Economic incentives are instruments that use financial means to motivate polluters to reduce the health and environmental risks posed by their facilities, processes, or products. Examples include pollution charges, fees, and taxes; deposit-refund systems; and trading programs. Economic incentives offer several advantages that make them attractive environmental management tools. In many cases incentives generate benefits beyond what is possible with traditional regulations; sometimes they are applied where traditional regulations might not be possible. They are particularly useful for small and geographically dispersed sources. They can also provide impetus for technological change.

EPA plans to continue to explore opportunities to use, significantly expand, or usefully support State or local governments in the use of innovative approaches, particularly market-based economic incentives. EPA will discuss possible opportunities for using incentives in the area of water pollution as well as other areas, and hope to share some recent examples of experiences where incentives have been used successfully for environmental pollution control.

(c) Research Strategy Development—The Committee will engage in a Consultation with EPA representatives on the approach they are considering for development of an environmental economics research strategy. EPA desires feedback from individual members of the Committee on whether this is an appropriate approach, given the goals of the strategy, for its development. Further, they would like to learn of additional techniques or considerations that might improve the proposed developmental approach. The Agency intends to return to the SAB for a formal peer review of their completed research strategy in late FY 2002.

EPA has discussed the need to develop an environmental economic research strategy with the EEAC on a number of occasions (see 63 FR 56:14112; 63 FR 150:41826; 64 FR 205:57452). Now, EPA's National Center for Environmental Research (NCER) and the National Center for Environmental Economics (NCEE) are initiating the development of an EPA-wide “Economic Research Strategy” with widespread program input and external consultation and peer review. The Economic Research Strategy will provide a blueprint for economic research priorities for EPA and will help coordinate dispersed but related economic research efforts throughout the Agency.

An initial effort to identify economic research strategies was undertaken by the Office of Policy, now the Office of Policy, Economics, and Innovation's NCEE, in 1997. Evaluation of this effort pointed out some needed supplemental information, such as an assessment of current research, that should be included in a comprehensive economic research strategy. In response, NCEE and NCER have decided to develop a revised research strategy. This project will build on the accomplishments of the first effort, which have provided guidance for research for the past 3 years, but will augment them with new components, such as assessments of research in priority areas, and a reassessment of program and regional priorities for economic research.

The research strategy will describe not only the priorities identified by program practitioners, but will evaluate the state of the science in the identified priority areas, so that research efforts can be focused where the incremental effort will have the greatest practical payoff. It will also provide differential foci on the short, medium and long run that will allow EPA to develop an implementation plan using its full suite of economic research tools and vehicles, such as in-house research, contracts, cooperative agreements or research grants, to meet the identified need with the most appropriate tool.

For Further Information—Any member of the public wishing further information concerning this meeting should contact Mr. Thomas O. Miller, Designated Federal Officer, EPA Science Advisory Board, U.S. Environmental Protection Agency (1400A), 1200 Pennsylvania Avenue, NW., Washington, DC 20460, telephone (202) 564-4558; FAX (202) 501-0582; or via e-mail at miller.tom@epa.gov. For a copy of the draft meeting agenda, please contact Ms. Wanda Fields, Management Assistant at (202) 564-4539, or by FAX at (202) 501-0582 or via e-mail at fields.wanda@epa.gov.

Background Information—is available on the EPA from: (1) For topics “a” and “b” above, Ms. Jennifer Bowen, Research and Program Support Division, National Center for Environmental Economics, U.S. EPA, 1200 Pennsylvania Avenue, Mail Code 1809, Washington, DC 20460; Phone: (202) 260-4396; or E-Mail, bowen.jennifer@epa.gov; (2) for topic “c” above, Dr. Matthew Clark, Economics, Social and Behavioral Science Program; National Center for Environmental Research, 1200 Pennsylvania Avenue, NW., Mail Code 8722R, Washington, DC 20460; Phone: (202) 564-6842; or E-Mail: clark.matthew@epa.gov.

Public Oral or Written Comments—Members of the public who wish to make a brief oral presentation (5 minutes or less) to the Committee must contact Mr. Miller in writing (by letter or by fax—see contact information above) no later than 12 noon Eastern Time, Wednesday, November 21, 2001 in order to be included on the Agenda. The request should identify the name of the individual who will make the presentation, the organization (if any) they will represent, any requirements for audio visual equipment (e.g., overhead projector, 35mm projector, chalkboard, etc), and at least 35 copies of an outline of the issues to be addressed or the presentation itself. Written comments will be accepted until close of business December 7, 2001. See below for more information on providing written or oral comments.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of five minutes. For teleconference meetings, opportunities for oral comment will usually be limited to no more than three minutes per speaker. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 35 copies of their comments for public distribution.

General Information—Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Mr. Miller at least five business days prior to the meeting so that appropriate arrangements can be made.

Dated: October 18, 2001.
Donald G. Barnes,
Staff Director, EPA Science Advisory Board.

[FR Doc. 01-27009 Filed 10-25-01; 8:45 am]

BILLING CODE 6560-50-P